DEPARTMENT OF COMMERCE

International Trade Administration

[A-580-809]

Circular Welded Non-Alloy Steel Pipe From the Republic of Korea: Rescission of Antidumping Duty Administrative Review

AGENCY: Import Administration, International Trade Administration, Department of Commerce.

ACTION: Notice of Rescission of Antidumping Duty Administrative Review.

SUMMARY: In response to a November 30, 2001 request made by Shinho Steel Co., a producer/exporter from the Republic of Korea of circular welded non-alloy steel pipe, the Department of Commerce published the initiation of an administrative review of the antidumping duty order on circular welded non-alloy steel pipe from the Republic of Korea for Shinho Steel Co. (covering the period November 1, 2000 to October 31, 2001). Initiation of Antidumping and Countervailing Duty Administrative Reviews, 66 FR 65470 (December 19, 2001). This review has now been rescinded as a result of the withdrawal of the request for review by Shinho Steel Co.

EFFECTIVE DATE: January 3, 2002.

FOR FURTHER INFORMATION CONTACT: Suresh Maniam or Andrew McAllister, AD/CVD Enforcement, Group I, Office 1, Import Administration, U.S. Department of Commerce, 14th Street and Constitution Avenue, NW., Washington, DC 20230; telephone: (202) 482-0176 or (202) 482-1174, respectively.

SUPPLEMENTARY INFORMATION:

Applicable Statute

Unless otherwise indicated, all citations to the statute are references to the provisions effective January 1, 1995, the effective date of the amendments made to the Tariff Act of 1930 (the “Act”) by the Uruguay Round Agreements Act. In addition, unless otherwise indicated, all citations to the Department of Commerce's (“Department”) regulations refer to 19 CFR part 351 (2001).

Background

On November 30, 2001, Shinho Steel Co. (“Shinho”), a producer/exporter of circular welded non-alloy steel pipe in the Republic of Korea, requested an administrative review of the antidumping duty order on circular welded non-alloy steel pipe from the Republic of Korea covering the period November 1, 2000 to October 31, 2001. In accordance with 19 CFR 351.221(c)(1)(i), we published the initiation of the review on December 19, 2001. Initiation of Antidumping and Countervailing Duty Administrative Reviews, 66 FR 65470. On December 19, 2001, Shinho withdrew its request for review.

Rescission of Review

The Department's regulations provide that the Department will rescind an administrative review if a party that requested a review withdraws the request within ninety days of the date of publication of the notice of initiation of the requested review. 19 CFR 351.213(d)(1). Shinho's request for review was withdrawn within the ninety-day deadline.

As a result of the withdrawal of the request for review and because the Department received no other request for review, the Department is rescinding this administrative review.

This notice also serves as a reminder to parties subject to administrative protective order (“APO”) of their responsibility concerning the disposition of proprietary information disclosed under APO in accordance with 19 CFR 351.305(a)(3). Timely written notification of the return or destruction of APO materials or conversion to judicial protective order is hereby requested. Failure to comply with the regulations and the terms of an APO is a sanctionable violation.

This determination is issued and published in accordance with sections 751(a)(1) and 777(i)(1) of the Tariff Act of 1930, as amended.

Dated: December 26, 2001.
Richard W. Moreland,
Deputy Assistant Secretary for Import Administration.

[FR Doc. 02-128 Filed 1-2-02; 8:45 am]

BILLING CODE 3510-DS-P